DEPARTMENT OF COMMERCE

Bureau of Industry and Security

Sensors and Instrumentation Technical Advisory Committee; Notice of Open Meeting

The Sensors and Instrumentation Technical Advisory Committee will meet on January 29, 2008, 9:30 a.m., in the Herbert C. Hoover Building, Room 3884, 14th Street between Pennsylvania and Constitution Avenues, NW., Washington, DC. The Committee advises the Office of the Assistant Secretary for Export Administration with respect to technical questions that affect the level of export controls applicable to sensors and instrumentation equipment and technology.

Agenda

1. Welcome and Introductions.

2. Remarks from Bureau of Industry and Security Management.

3. Industry Presentations.

4. New Business.

The open session will be accessible via teleconference to 20 participants on a first come, first serve basis. To join the conference, submit inquiries to Ms. Yvette Springer at Yspringer@bis.doc.gov no later than January 22, 2008.

The meeting will be open to the public and a limited number of seats will be available. Reservations are not accepted. To the extent that time permits, members of the public may present oral statements to the Committee. Written statements may be submitted at any time before or after the meeting. However, to facilitate distribution of public presentation materials to the Committee members, the Committee suggests that presenters forward the public presentation materials two weeks prior to the meeting date to Yvette Springer at Yspringer@bis.doc.gov.

FOR MORE INFORMATION CONTACT: Yvette Springer on (202) 482-2813.

Dated: January 10, 2008.
Yvette Springer,
Committee Liaison Officer.

[FR Doc. E8-549 Filed 1-14-08; 8:45 am]

BILLING CODE 3510-JT-P